DEPARTMENT OF COMMERCE

National Oceanic and Atmospheric Administration

50 CFR Part 679

[I.D. 112803A]

RIN 0648-AR74

Fisheries of the Exclusive Economic Zone Off Alaska; Rebuilding Overfished Fisheries

AGENCY: National Marine Fisheries Service (NMFS), National Oceanic and Atmospheric Administration (NOAA), Commerce.

ACTION: Notice of availability; request for comments.

SUMMARY: The North Pacific Fishery Management Council (Council) has submitted for Secretarial review Amendment 17 to the Fishery Management Plan for Bering Sea/Aleutian Islands King and Tanner Crabs (FMP). This amendment would implement a rebuilding plan for the overfished stock of Pribilof Islands blue king crab. This action is intended to ensure that conservation and management measures continue to be based on the best scientific information available and enhance the Council's ability to achieve, on a continuing basis, optimum yield from fisheries under its authority.

DATES: Comments on the amendment must be submitted on or before February 17, 2004.

ADDRESSES: Comments may be submitted to Sue Salveson, Assistant Regional Administrator, Sustainable Fisheries Division, Alaska Region, NMFS, P.O. Box 21668, Juneau, AK 99802-1668, Attn: Lori Durall. Comments also may be sent via facsimile (fax) to 907-586-7465. Comments will not be accepted if submitted via e-mail or Internet. Courier or hand delivery of comments may be made to NMFS in the Federal Building, Room 420, Juneau, AK 99801.

Copies of Amendment 17 to the FMP, and the Environmental Assessment (EA) prepared for the amendment are available from the above address.

FOR FURTHER INFORMATION CONTACT: Gretchen Harrington, 907-586-7228 or gretchen.harrington@noaa.gov.

SUPPLEMENTARY INFORMATION: NMFS declared the Pribilof Islands stock of blue king crab (Paralithodes platypus) overfished because the spawning stock biomass was below the minimum stock size threshold defined in Amendment 7 to the FMP. Amendment 7 specified objective and measurable criteria for identifying when any of the crab fisheries covered by the FMP are overfished or when overfishing is occurring (64 FR 11390, March 9, 1999).

On September 23, 2002, NMFS notified the Council that the Pribilof Islands blue king crab stock was overfished (67 FR 62212, October 4, 2002). The Council then took action to develop a rebuilding plan within 1 year of notification as required by section 304(e)(3) of the Magnuson-Stevens Fishery Conservation and Management Act (Magnuson-Stevens Act). In October 2003, the Council adopted Amendment 17, the rebuilding plan, to accomplish the purposes outlined in the national standard guidelines to rebuild the overfished stock.

Amendment 17 specifies a time period for rebuilding the stock intended to satisfy the requirements of the Magnuson-Stevens Act. Under the rebuilding plan, the Pribilof Islands blue king crab stock is estimated to rebuild, with a 50-percent probability, within 10 years. The stock will be considered “rebuilt” when it reaches the maximum sustainable yield stock size level in 2 consecutive years. This rebuilding time period is as short a possible and takes into account the status and biology of the stock, the needs of fishing communities, and the interaction of the overfished stock within the marine ecosystem, as required by the Magnuson-Stevens Act in section 304(e)(4)(A)(i).

The rebuilding plan consists of a framework that references the State of Alaska's harvest strategy. Section 8.3 of the FMP defers to the State of Alaska the authority to develop and implement harvest strategies, with oversight by NMFS and the Council. The rebuilding harvest strategy, and alternative harvest strategies, were developed and analyzed by the Alaska Department of Fish and Game and reviewed and adopted by the Alaska Board of Fisheries. The rebuilding harvest strategy, and detailed alternatives analysis, were reviewed by the Council, its Scientific and Statistical Committee, and Crab Plan Team for consistency with the FMP, Magnuson-Stevens Act, and the National Standard guidelines. The analysis prepared for the rebuilding harvest strategy is contained in the EA prepared for this action.

The rebuilding harvest strategy, which closes the directed fishery until the stock is rebuilt, should result in more spawning biomass than allowing a fishery during rebuilding, because more large male crab would be conserved and fewer juveniles and females would die due to incidental catch and discard mortality. More spawning biomass would be expected to produce larger year-classes when environmental conditions are favorable.

This conservative rebuilding plan is warranted at this time for this stock given the concerns regarding the rebuilding potential of this stock, the potential vulnerability to overfishing, and the poor precision of survey estimates. The other alternatives under consideration, which would allow fishing prior to stock rebuilding, would not provide sufficient safeguards for this vulnerable stock. The preferred alternative, while forgoing harvest in the short-term, is the strongest guarantee that the stock will be healthy and support a fishery in the long term. Once rebuilt, fishing communities would once again have expanded opportunities (both fishing and processing) in this potentially lucrative fishery. As this rebuilding plan applies the same restrictions to all participants, the plan allocates the fishery restrictions fairly and equitably among sectors of the fishery. Likewise, the plan allocates all recovery benefits fairly and equitably among sectors of the fishery.

No additional habitat or bycatch measures are part of this rebuilding plan because neither habitat nor bycatch measures are expected to have a measurable impact in rebuilding. Habitat is protected from fishing impacts by the existing Pribilof Islands Habitat Conservation Zone, which encompasses the majority of blue king crab habitat. Bycatch of blue king crab in both crab and groundfish fisheries is a negligible proportion of the total population abundance.

An EA was prepared for Amendment 17 that describes the management background, the purpose and need for action, the management alternatives, and the environmental and socio-economic impacts of the alternatives. A copy of the EA can be obtained from NMFS (see ADDRESSES).

The Magnuson-Stevens Act requires that each regional fishery management council submit each FMP or FMP amendment it prepares to NMFS for review and approval, disapproval, or partial approval. The Magnuson-Stevens Act also requires that NMFS, upon receiving an FMP or FMP amendment, immediately publish a notification in the Federal Register that the amendment is available for public review and comment. This action constitutes such notice for FMP Amendment 17. NMFS will consider public comments received during the comment period in determining whether to approve this FMP amendment. To be considered, a comment must be received by close of business by the last day of the comment period (see DATES), regardless of the comment's postmark or transmission date.

Dated: December 12, 2003.
Bruce C. Morehead,
Acting Director, Office of Sustainable Fisheries, National Marine Fisheries Service.

[FR Doc. 03-31226 Filed 12-17-03; 8:45 am]

BILLING CODE 3510-22-S